OFFICE OF PERSONNEL MANAGEMENT

Proposed Collection; Comment Request Review of New Information Collection: OPM 1646

AGENCY: Office of Personnel Management.

ACTION: Notice.

SUMMARY: In accordance with the Paperwork Reduction Act of 1995 (Public Law 104-13, May 22, 1995), this notice announces that the Office of Personnel Management intends to submit to the Office of Management and Budget a request for clearance of a new information collection. OPM Form 1646, CFC for Federal Retirees Pledge Card, is used to record Combined Federal Campaign pledges from federal retirees.

We estimate 8,300 Form 1646's will be completed annually. Each form takes approximately 10 minutes to complete. The annual estimated burden is 1,383 hours.

Comments are particularly invited on:

—Whether this collection of information is necessary for the proper performance of functions of the Office of Personnel Management, and whether it will have practical utility;

—Whether our estimate of the public burden of this collection is accurate, and based on valid assumptions and methodology; and

—Ways in which we can minimize the burden of the collection of information on those who are to respond, through use of the appropriate technological collection techniques or other forms of information technology.

For copies of this proposal, contact Mary Beth Smith-Toomey on 202/606-8358, or E-mail to mbtoomey@opm.gov.

DATES: Comments on this proposal should be received within 60 calendar days from the date of this publication.

ADDRESSES: Send or deliver comments to: Curtis Rumbaugh, Office of CFC Operations, U.S. Office of Personnel Management, 1900 E Street, NW., Room 5450, Washington, DC 20415.

For information regarding administrative coordination contact: Curtis Rumbaugh, Office of CFC Operations, U.S. Office of Personnel Management, 1900 E Street, NW, Room 5450, Washington, DC 20415, (202) 606-2564.

Office of Personnel Management.
Steven R. Cohen,
Acting Director.

[FR Doc. 01-15116 Filed 6-14-01; 8:45 am]

BILLING CODE 6325-46-P